TRADE AND DEVELOPMENT AGENCY

SES Performance Review Board

AGENCY: Trade and Development Agency.

ACTION: Notice.

SUMMARY: Notice is hereby given of the appointment of members of the Trade and Development Agency's Performance Review Board.

FOR FURTHER INFORMATION CONTACT: Larry P. Bevan, Assistant Director for Management Trade and Development Agency, 1621 N. Kent Street, Arlington, VA, 22209-2131 (703) 875-4357.

SUPPLEMENTARY INFORMATION: Section 4314(c)(1) through (5), U.S.C., requires each agency to establish, in accordance with regulations prescribed by the Office of Personnel Management, one or more SES performance review boards. The board shall review and evaluate the initial appraisal of a senior executive's performance by the supervisor, along with any recommendations to the appointing authority relative to the performance of the senior executive.

The following have been selected as acting members of the Performance Review Board of the Trade and Development Agency; James Painter, Director, Office of Budget, U.S. Agency for International Development; Kathleen O'Hara, Deputy Director, Office of Procurement, Bureau of Management, U.S. Agency for International Development; and Andrew Luten, Deputy General Counsel, Office of the General Counsel, U.S. Agency for International Development.

Dated: November 21, 2000.
Larry P. Bevan,
Assistant Director for Management.

[FR Doc. 00-30179 Filed 11-27-00; 8:45 am]

BILLING CODE 8040-01-M